DEPARTMENT OF AGRICULTURE

Animal and Plant Health Inspection Service

[Docket No. 04-132-1]

Secretary's Advisory Committee on Foreign Animal and Poultry Diseases; Renewal

AGENCY: Animal and Plant Health Inspection Service, USDA.

ACTION: Notice of renewal.

SUMMARY: We are giving notice that the Secretary of Agriculture has renewed the Secretary's Advisory Committee on Foreign Animal and Poultry Diseases for a 2-year period. The Secretary has determined that the Committee is necessary and in the public interest.

FOR FURTHER INFORMATION CONTACT: Dr. Joe Annelli, Director of Emergency Management Outreach and Liaisons, Emergency Management, VS, APHIS, 4700 River Road Unit 41, Riverdale, MD 20737-1231; (301) 734-8073.

SUPPLEMENTARY INFORMATION: The purpose of the Secretary's Advisory Committee on Foreign Animal and Poultry Diseases (the Committee) is to advise the Secretary of Agriculture regarding program operations and measures to suppress, control, or eradicate and outbreak of foot-and-mouth disease, or other destructive foreign animal or poultry diseases, in the event these diseases should enter the United States. The Committee also advises the Secretary of Agriculture of means to prevent these diseases.

Done in Washington, DC, this 25th day of May 2005.
Michael James Harrison,
Assistant Secretary for Administration.

[FR Doc. E5-2768 Filed 5-31-05; 8:45 am]

BILLING CODE 3410-34-P